GENERAL SERVICES ADMINISTRATION

48 CFR Parts 519 and 570

[GSAR Case 2022-G519; Docket No. 2024-0006; Sequence No. 1]

RIN 3090-AK78

General Services Administration Acquisition Regulation; Removing Small Disadvantaged Business Program Requirements To Align With the FAR

AGENCY: Office of Acquisition Policy, General Services Administration (GSA).

ACTION: Final rule.

SUMMARY: The General Services Administration is issuing a final rule amending the General Services Administration Acquisition Regulation to remove Small Disadvantaged Business Program requirements references to align with the Federal Acquisition Regulation for consistency.

DATES: Effective February 15, 2024.

FOR FURTHER INFORMATION CONTACT: For clarification of content, contact Mr. Curtis Hauschlidt, GSA Acquisition Policy Division, at GSARPolicy@gsa.gov or 817-253-7858. For information pertaining to status or publication schedules, contact the Regulatory Secretariat at 202-501-4755 or GSARegsec@gsa.gov. Please cite GSAR Case 2022-G519.

SUPPLEMENTARY INFORMATION:

I. Background

Federal Acquisition Regulation (FAR) subpart 19.12, Small Disadvantaged Business Participation Program, and all references to it, were removed from the FAR on October 14, 2014 (FAR Case 2009-016, 79 FR 61746). This removal followed a Federal court ruling that declared 10 U.S.C. 2323 unconstitutional. FAR subpart 19.12 derived its authority solely from 10 U.S.C. 2323, thus necessitating its removal. While removal from the FAR was made, no conforming changes were made to the General Services Administration Acquisition Regulation (GSAR). Upon routine regulatory review of the GSAR, this discrepancy was observed and removal was determined necessary. This final rule aligns the GSAR with the FAR.

To summarize, GSAR subpart 519.12 is removed and reserved for future use. All mentions of GSAR subpart 519.12 are also removed, as well as corresponding mentions to FAR subpart 19.12 and corresponding clauses, which have been removed from the FAR. Changes made are as follows:

• Removal of GSAR subpart 519.12. Reservation of GSAR subpart 519.12.

• Removal of reference to GSAR subpart 519.12 from the table at 570.101.

• Removal of reference to FAR clauses 52.219-24, 52.219-25, and 52.219-26 listed at 570.701.

• Removal of reference to FAR 19.1202-4(b) from GSAR 570.306.

II. Publication of This Final Rule for Public Comment Is Not Required

The statute that applies to the publication of the GSAR is the Office of Federal Procurement Policy statute (codified at title 41 of the United States Code). Specifically, 41 U.S.C. 1707(a)(1) requires that a procurement policy, regulation, procedure or form (including an amendment or modification thereof) must be published for public comment if it relates to the expenditure of appropriated funds, and has either a significant effect beyond the internal operating procedures of the agency issuing the policy, regulation, procedure, or form, or has a significant cost or administrative impact on contractors or offerors. This rule is not required to be published for public comment because GSA is not issuing a new regulation; rather, this rule is merely removing the Small Disadvantaged Business Program requirements from the GSAR to better align with the FAR for consistency.

III. Executive Order 12866, 13563, and 14094

Executive Order (E.O.) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) supplements and reaffirms the principles, structures, and definitions governing contemporary regulatory review established in E.O. 12866 and E.O. 13563. The Office of Information and Regulatory Affairs (OIRA) in the Office of Management and Budget (OMB) has determined that this is not a significant regulatory action and, therefore, is not subject to review under section 6(b) of E.O. 12866, Regulatory Planning and Review, dated September 30, 1993.

IV. Congressional Review Act

OIRA has determined that this rule is not a major rule under 5 U.S.C. 804(2). Subtitle E of the Small Business Regulatory Enforcement Fairness Act of 1996 (codified at 5 U.S.C. 801-808), also known as the Congressional Review Act or CRA, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule under the CRA cannot take effect until 60 days after it is published in the Federal Register.

V. Regulatory Flexibility Act

The Regulatory Flexibility Act (5 U.S.C. 601 et seq.) does not apply to this rule, because an opportunity for public comment is not required to be given for this rule under 41 U.S.C. 1707(a)(1). Accordingly, no regulatory flexibility analysis is required and none has been prepared.

VI. Paperwork Reduction Act

The rule does not contain any information collection requirements that require the approval of the Office of Management and Budget under the Paperwork Reduction Act (44 U.S.C. chapter 35).

List of Subjects in 48 CFR Parts 519 and 570

Government procurement.

Jeffrey A. Koses,
Senior Procurement Executive, Office of Acquisition Policy, Office of Government-wide Policy, General Services Administration.

Therefore, GSA amends 48 CFR parts 519 and 570 as set forth below:

1. The authority citation for 48 CFR parts 519 and 570 continues to read as follows:

Authority: 40 U.S.C. 121(c).

Subpart 519.12 [Removed and Reserved]

PART 519—SMALL BUSINESS PROGRAMS

2. Remove and reserve subpart 519.12, consisting of sections 519.1202 and 519.1202-2.

PART 570—ACQUIRING LEASEHOLD INTERESTS IN REAL PROPERTY

3. Amend section 570.101 in table 1 to paragraph (b) by revising the entry for 501 to read as follows:

570.101 Applicability.

* * * * *

(b) * * *

Table 1 to Paragraph (b)—GSAR Rules Applicable to Acquisitions of Leasehold Interests in Real Property
501 | 515.209-70 |  | 536.271
* * * * * * *

* * * * *

4. Amend section 570.306 by revising the introductory text of paragraph (d) to read as follows:

570.306 Evaluating offers.

* * * * *

(d) The contracting officer may obtain information to evaluate an offeror's past performance on subcontracting plan goals and monetary targets from the following sources:

* * * * *

570.701 [Amended]

5. Amend section 570.701 by:

a. Removing paragraph (h);

b. Redesignating paragraphs (i) through (l) as paragraphs (h) through (k); and

c. Removing paragraph (m).

[FR Doc. 2024-02917 Filed 2-14-24; 8:45 am]

BILLING CODE 6820-61-P